DEPARTMENT OF ENERGY

Federal Energy Regulatory Commission

[Docket No. EC05-10-000, et al.]

Reliant Energy Electric Solutions, L.L.C., et al.; Electric Rate and Corporate Filings

November 5, 2004.

The following filings have been made with the Commission. The filings are listed in ascending order within each docket classification.

1. Reliant Energy Electric Solutions, LLC

[Docket No. EC05-10-000]

Take notice that on October 28, 2004, Reliant Energy Electric Solutions, LLC, (REES) submitted an application pursuant to Section 203 of the Federal Power Act, seeking authorization for the disposition of Applicant's jurisdictional assets that would result from a proposed restructuring of certain affiliates of Reliant Energy, Inc. (REI). REES states that the proposed restructuring involves a solely internal corporate reorganization. REES further states that under the proposed restructuring it will be a direct subsidiary of Reliant Energy Retail Holdings, LLC (RERH) and an owner of jurisdictional facilities in the form of market-based rate authority, will become a direct subsidiary of REI, thereby effecting an indirect change in control of a jurisdictional entity.

Comment Date: 5 p.m. eastern time on November 18, 2004.

2. Invenergy TN LLC

[Docket No. EC05-11-000]

Take notice that on October 28, 2004, Invenergy TN LLC (Invenergy) tendered for filing pursuant to section 203 of the Federal Power Act (FPA), 16 U.S.C. 824b, and part 33 of the Commission's regulations, 18 CFR part 33, an application requesting authorization to transfer passive, non-voting ownership of jurisdictional facilities associated with Invenergy's 27 MW wind generator located in Anderson County, Tennessee to passive investors who would make an equity investment in the Invenergy and who would have no operational control over the company. Invenergy states that the transaction will result in no change in control over the facility or have an adverse effect on competition, rates or regulation.

Comment Date: 5 p.m. eastern time on November 18, 2004.

3. USGen New England, Inc. TransCanada Hydro Northeast Inc.

[Docket No. EC05-12-000]

Take notice that on October 29, 2004, USGen New England, Inc. (USGenNE) and TransCanada Hydro Northeast Inc. (TC Hydro NE) filed with the Commission an application pursuant to section 203 of the Federal Power Act (FPA) requesting the Commission authorize the sale and transfer from USGenNE to TC Hydro NE of certain FPA-jurisdictional assets associated with hydroelectric generating assets.

Comment Date: 5 p.m. eastern time on November 19, 2004.

4. National Power of America, Inc.

[Docket No. EC05-13-000]

Take notice that on October 29, 2004, National Power of America, Inc. (NPAI) filed an application requesting authorization to convert its form of business organization from a Delaware corporation to a Delaware limited liability company.

Comment Date: 5 p.m. eastern time on November 19, 2004.

5. Entergy Corporation

[Docket No. EC05-14-000]

Take notice that on November 1, 2004, Entergy Corporation, on behalf of itself, Entergy International Holdings Ltd., Entergy Global Investments, Inc., Entergy Global Trading Holdings, Ltd., Entergy International Holdings Ltd. LLC, Entergy-Koch Trading, LP, Entergy Power International Holdings Corporation, Entergy Power Gas Holdings Corporation, Entergy Power Gas Operations Corporation, Entergy Power Ventures, L.P., EWO Marketing, LP., Llano Estacado Wind, LP, Northern Iowa Windpower, LLC, and Warren Power, LLC (collectively, Applicants) submitted an application requesting all necessary authorizations under section 203 of the Federal Power Act for the Applicants to engage in a corporate reorganization that will alter the upstream ownership of certain facilities subject to the Commission's jurisdiction.

Applicants state that copies of this filing have been served on the Arkansas Public Service Commission, the Louisiana Public Service Commission, the City Council of New Orleans, the Mississippi Public Service Commission, and the Texas Public Utility Commission.

Comment Date: 5 p.m. eastern time on November 22, 2004.

6. Sithe Energies, Inc., Dynegy New York Holdings Inc., Exelon SHC, Inc., Exelon New England Power, Marketing, L.P., RCSE, LLC, ExRes SHC, Inc., AG-Energy, L.P., Power City Partners, L.P., Seneca Power Partners, L.P., Sterling Power Partners, L.P., Sithe/Independence Power Partners, L.P., and Sithe Energy Marketing, L.P.

[Docket No. EC05-15-000]

Take notice that on November 3, 2004, Sithe Energies, Inc. (Sithe), Dynegy New York Holdings Inc. (Dynegy), Exelon SHC, Inc. (Exelon SHC), Exelon New England Power Marketing, L.P. (Exelon NEPM), RCSE, LLC (RCSE), and ExRes SHC, Inc. (collectively, the Applicants) submitted an application pursuant to section 203 of the Federal Power Act for authorization of a disposition of jurisdictional facilities whereby Dynegy would acquire a 100 percent ownership interest in Sithe, currently held jointly by Exelon SHC and RCSE.

Comment Date: 5 p.m. eastern time on December 16, 2004.

7. PJM Interconnection, L.L.C.

[Docket No. EL03-236-003]

Take notice that on November 2, 2004, PJM Interconnection, L.L.C. (PJM), in compliance with the Commission's order in PJM Interconnection, L.L.C., 107 FERC ¶ 61,112 (2004), submitted amendments to the PJM Open Access Transmission Tariff (PJM Tariff) and the Amended and Restated Operating Agreement of PJM Interconnection, L.L.C. (Operating Agreement) to address compensation for frequently mitigated units and generation deactivations. PJM also reported on the results of its investigation regarding the expected impacts on its overall market design of adopting pricing that reflects real-time shortages of operating reserves.

PJM states that copies of the filing were served upon all PJM Members each entity designated on the official service list in this proceeding and each state electric utility regulatory commission in the PJM region.

Comment Date: 5 p.m. eastern time on November 23, 2004.

8. Buckeye Power, Inc.

[Docket No. EL05-20-000]

Take notice that on November 3, 2004, Buckeye Power, Inc. (Buckeye) filed a petition for Commission approval of its monthly revenue requirement for reactive supply and voltage control from generation sources service from the Cardinal Generating Station Units Nos. 2 and 3 in Brilliant, Ohio, to PJM Interconnection, L.L.C. (PJM) for use in PJM's control area.

Buckeye states that a copy of the petition has been served on PJM.

Comment Date: 5 p.m. eastern time on November 24, 2004.

9. Dow Pipeline Company

[Docket Nos. ER00-2529-002]

Take notice that on November 1, 2004, Dow Pipeline Company (DPL), submitted for filing its triennial updated market analysis and revisions to its FERC Rate Schedule No. 1 to incorporate the Market Behavior Rules set forth in the Commission's orders issued November 17, 2003, and May 19, 2004, in Docket Nos. EL01-118-000, EL01-118-001, and EL01-118-003, Investigation of Terms and Conditions of Public Utility Market-Based Rate Authorizations, 105 FERC ¶ 61,218 (2003), order on reh'g, 107 FERC ¶ 61,175 (2004). DPL requests an effective date of November 1, 2004.

Comment Date: 5 p.m. eastern time on November 22, 2004.

10. California Electric Marketing, LLC

[Docket No. ER01-2690-003]

Take notice that on November 1, 2004, California Electric Marketing, LLC, submitted for filing with the Federal Energy Regulatory Commission an amendment to its September 21, 2004, filing of its triennial updated market analysis filed in accordance with the Commission's rules and regulations and its revised Rate Schedule FERC No. 1 incorporating the Market Behavior Rules set forth in the Commission's November 17, 2003, and May 19, 2004, orders in Docket Nos. EL01-118-000, EL01-118-001, and EL01-118-003, Investigation of Terms and Conditions of Public Utility Market-Based Rate Authorizations, 105 FERC ¶ 61,218 (2003), order on reh'g, 107 FERC ¶ 61,175 (2004).

Comment Date: 5 p.m. eastern time on November 22, 2004.

11. PJM Interconnection, L.L.C.

[Docket No. ER02-1326-009]

Take notice that on November 1, 2004, PJM Interconnection, L.L.C. tendered for filing a report entitled “Compliance Report to the Federal Energy Regulatory Commission Docket No. ER02-1326-006 Assessment of PJM Load Response Programs” prepared by the PJM Market Monitoring Unit in compliance with the Commission's order in PJM Interconnection, L.L.C., 104 FERC ¶ 61,188 (2003).

Comment Date: 5 p.m. eastern time on November 22, 2004.

12. Entergy Services, Inc.

[Docket No. ER03-599-004]

Take notice that on November 1, 2004, Entergy Services, Inc., on behalf of Entergy Arkansas, Inc., tendered for filing a refund report in accordance with the Commission's letter order issued September 16, 2004, in Docket No. ER03-599-000, et al., 108 FERC ¶ 61,238 (2004).

Comment Date: 5 p.m. eastern time on November 22, 2004.

13. California Independent System Operator Corporation

[Docket No. ER04-1087-002]

Take notice that on November 1, 2004, the California Independent System Operator Corporation (ISO) submitted a filing in compliance with the Commission's order issued October 1, 2004, in Docket No. ER04-1087-000, 109 FERC ¶ 61,006.

The ISO states that this filing has been served upon all parties on the official service list for the captioned docket. In addition, the ISO states that it has posted this filing on the ISO home page.

Comment Date: 5 p.m. eastern time on November 22, 2004.

14. The Dayton Power and Light Company

[Docket No. ER04-1256-001]

Take notice that on November 1, 2004, The Dayton Power and Light Company (Dayton) tendered for filing an amendment to its September 30, 2004, filing in Docket No. ER04-1256-000 of a Local Delivery Service Agreement with Buckeye Power, Inc.

Comment Date: 5 p.m. eastern time on November 22, 2004.

15. Pacific Gas and Electric Company

[Docket No. ER05-116-000]

Take notice that on November 1, 2004, Pacific Gas and Electric Company (PG&E) tendered for filing customer specific rates for wholesale distribution service between PG&E and Western Area Power Administration (Western). PG&E states that the customer specific rates are submitted pursuant to the PG&E Wholesale Distribution Tariff and permit PG&E to recover the ongoing costs for service required over PG&E's distribution facilities.

PG&E states that copies of this filing have been served upon Western, California Independent System Operator Corporation, the California Public Utilities Commission, and the parties to Docket No. ER04-690-000.

Comment Date: 5 p.m. eastern time on November 22, 2004.

16. PJM Interconnection, L.L.C.

[Docket No. ER05-120-000]

Take notice that on November 1, 2004, PJM Interconnection, L.L.C. (PJM) submitted for filing amendments to the PJM Amended and Restated Operating Agreement to modify the default allocation methodology applicable to its membership. PJM requests an effective date of January 1, 2005.

PJM states that copies of this filing have been served on all PJM members and the utility regulatory commissions in the PJM region.

Comment Date: 5 p.m. eastern time on November 22, 2004.

17. Pacific Gas and Electric Company

[Docket No. ER05-133-000]

Take notice that on November 1, 2004, Pacific Gas and Electric Company (PG&E) tendered for filing two Large Facilities Agreements and six Small Facilities Agreements, submitted pursuant to the Procedures for Implementation of section 3.3 of the 1987 Agreement between PG&E and the City and County of San Francisco (City) (Procedures) that were approved by this Commission in FERC Docket No. ER99-2532-000 and recently updated in a negotiated Clarifying Supplement thereto. PG&E states that this is its seventh quarterly filing submitted pursuant to section 4 of the Procedures, and the first filing of executed agreements pursuant to the Clarifying Supplement.

PG&E states that copies of this filing have been served upon City, the California Independent System Operator Corporation, and the California Public Utilities Commission.

Comment Date: 5 p.m. eastern time on November 22, 2004.

18. California Power Exchange Corporation

[Docket No. ER05-167-000]

Take notice that on November 1, 2004, the California Power Exchange Corporation (CalPX) tendered for filing its rate schedule for Rate Period 6, the period from January 1, 2005, through June 30, 2005. CalPX filed this rate schedule pursuant to the Commission's Orders of August 8, 2002 (100 FERC ¶ 61,178), in Docket No. ER02-2234-000, and April 1, 2003 (103 FERC ¶ 61,001), issued in Docket Nos. EC03-20-000 and EC03-20-001, which require CalPX to make a new rate filing every six months to recover current expenses. CalPX states that the rate schedule therefore covers expenses projected for the period January 1, 2005. CalPX also proposes a methodology to allocate CalPx's expenses for both Rate Period 6 and retroactively for Rate Periods 1 through 5, or alternatively, proposes that the Commission defer the issue of an allocation methodology after a determination of who owes what to whom in the refund processing.

CalPX states that it has served copies of the filing on its participants, the California Independent System Operator, the California Public Utilities Commission, and the California Electricity Oversight Board.

Comment Date: 5 p.m. eastern time on November 15, 2004.

19. Southwest Power Pool, Inc.

[Docket Nos. RT04-01-006 and ER04-48-006]

Take notice that on November 1, 2004, Southwest Power Pool, Inc. (SPP) tendered for filing tariff revisions and other materials in compliance with the Commission's order issued October 1, 2004, in Southwest Power Pool, Inc., 109 FERC ¶ 61,009 (2004).

SPP states it has served a copy of this filing upon all parties listed on the official service list compiled by the Secretary in this proceeding.

Comment Date: 5 p.m. eastern time on November 22, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3192 Filed 11-16-04; 8:45 am]

BILLING CODE 6717-01-P